DEPARTMENT OF HOUSING AND URBAN DEVELOPMENT

[Docket No. FR-5907-N-40]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), call the toll-free Title V information line at 800-927-7588 or send an email to title5@hud.gov.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, The Department of Health and Human Services, Room 12-07, Parklawn Building, 5600 Fishers Lane, Rockville, MD 20857, (301)-443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 or send an email to title5@hud.gov for detailed instructions, or write a letter to Ann Marie Oliva at the address listed at the beginning of this Notice. Included in the request for review should be the property address (including zip code), the date of publication in the Federal Register, the landholding agency, and the property number.

For more information regarding particular properties identified in this Notice (e.g., acreage, floor plan, condition of property, existing sanitary facilities, exact street address), providers should contact the appropriate landholding agencies at the following addresses: COE: Ms. Brenda Johnson-Turner, HQUSACE/CEMP-CR, 441 G Street NW., Washington, DC 20314, (202)-761-7238; GSA: Mr. Flavio Peres, General Services Administration, Office of Real Property Utilization and Disposal, 1800 F Street NW., Room 7040, Washington, DC 20405, (202) 501-0084; INTERIOR: Mr. Michael Wright, Acquisition & Property Management, Department of the Interior, 3960 N. 56th Ave. #104, Hollywood, FL 33021; (443) 223-4639; NASA: Mr. William Brodt, National Aeronautics AND Space Administration, 300 E Street SW., Room 2P85, Washington, DC 20546, (202)-358-1117; NAVY: Ms. Nikki Hunt, Department of the Navy, Asset Management Division, Naval Facilities Engineering Command, Washington Navy Yard, 1330 Patterson Ave. SW., Suite 1000, Washington, DC 20374; (202)-685-9426; (These are not toll-free numbers).

Dated: September 22, 2016.
Tonya Proctor,
Deputy Director, Office of Special Needs Assistance Programs.

TITLE V, FEDERAL SURPLUS PROPERTY PROGRAM FEDERAL REGISTER REPORT FOR 09/30/2016

Suitable/Available Properties

Building

Maryland

Suitland Trailer

4401 Suitland Rd.

Suitland MD 20746

Landholding Agency: GSA

Property Number: 54201630016

Status: Unutilized

GSA Number: MD1838

Directions: Off-site removal only; no future agency need; 12,000 gsf; office; relocation extremely difficult due to size; transferee responsible for all expenses related to removal of property; property mothballed for 8+ years; located on highly secured federal campus; major repairs/rehab needed

Comments: contact GSA for more details on accessibility and other conditions.

Texas

Sierra Border Patrol Station

908 West El Paso Street

Sierra Blanco TX 79851

Landholding Agency: GSA

Property Number: 54201630013

Status: Surplus

GSA Number: 7-X-TX-11641-AB

Directions: Landholding Agency: U.S. Customs Border Protection; Disposal Agency: GSA

Comments: office 1,200 sq. ft.; storage; 1,200 sq. ft.; 12+ months vacant; good to fair conditions; contact GSA for more information.

Unsuitable Properties

Building

Alabama

Naval Air Station

Whiting Field

21754 Woodlawn Rd.

Summerdale AL 36580

Landholding Agency: Navy

Property Number: 77201630033

Status: Underutilized

Comments: public access denied and no alternative method to gain access without compromising national security.

Reasons: Secured Area

Alaska

Carpentry Shop Building 28

Katmai National Park & Preserve

No. 4688 Lot 4

King Salmon AK 99613

Landholding Agency: Interior

Property Number: 61201630018

Status: Unutilized

Comments: documented deficiencies: structure has extensive deterioration, found to be structurally unsound or in collapsed condition.

Reasons: Extensive deterioration

California

NASA Ames Research Center

NASA/BE 1063/SAP Property ID 127; Property

Number: T-20; Name: Mixed Use Modular Fac.

Moffett CA 94035

Landholding Agency: NASA

Property Number: 71201630014

Status: Underutilized

Comments: documented deficiencies: roof leaking; caving in; clear threat to physical safety.

Reasons: Extensive deterioration

Guam

Administrative Office,

Building 100 Tumon Tank Farm

Building 100, Marine Corps Drive

Tamuning GU

Landholding Agency: Navy

Property Number: 77201630031

Status: Underutilized

Comments: public access denied and no alternative method to gain access without compromising national security.

Reasons: Secured Area

Idaho

CF-637 Waste Storage Bunker

Idaho National Laboratory #950990

Scoville ID 83415

Landholding Agency: GSA

Property Number: 54201630012

Status: Excess

GSA Number: 9-B-WA-00013-S

Directions: Disposal Agency: GSA; Land Holding Agency: DOE

Comments: located entirely w/in Idaho Nat'l Lab, a Dept. of Energy secured facility where public access denied and no alternative method to gain access without compromising national security.

Reasons: Secured Area

Kansas

2 Buildings

2453 Lake Road

Fall River KS 67047

Landholding Agency: COE

Property Number: 31201630024

Status: Unutilized

Comments: documented deficiencies: very dilapidated, ceiling has fallen in, flooring has rotted & walls have considerable damage.

Reasons: Extensive deterioration

Maryland

Admiral House A; FRC White Oak

10705-A Crouch Rd.

Silver Springs MD 20903

Landholding Agency: GSA

Property Number: 54201630014

Status: Unutilized

GSA Number: MD1832ZZ

Directions: Highly secured federal campus; only federal agencies allowed to occupy space on campus

Comments: property located within floodway which has not been corrected or contained; public access denied and no alternative method to gain access without compromising national security.

Reasons: Floodway

Admiral House B

10705-B Crouch Rd.

Silver Springs MD 20903

Landholding Agency: GSA

Property Number: 54201630015

Status: Unutilized

GSA Number: MD1833ZZ

Directions: Highly secured federal campus; only federal agencies allowed to occupy space on campus

Comments: property located within floodway which has not been corrected or contained; public access denied and no alternative method to gain access without compromising national security.

Reasons: Floodway

Suitland Federal Building 2

4301 Suitland Rd.

Suitland MD 20746

Landholding Agency: GSA

Property Number: 54201630017

Status: Unutilized

GSA Number: MD0044

Comments: highly secured federal campus; only federal agencies allowed to occupy space on campus; public access denied and no alternative method to gain access without compromising national security.

Reasons: Secured Area

Suitland Heating/Cooling Plant

4105 Suitland Rd.

Suitland MD 20746

Landholding Agency: GSA

Property Number: 54201630018

Status: Underutilized

GSA Number: MD0106

Directions: GSA Inventory Nos.: MD0106 & MD0182

Comments: highly secured federal campus; only federal agencies allowed to occupy space on campus; public access denied and no alternative method to gain access without compromising national security.

Reasons: Secured Area

6 Buildings

Assateague Island National Seashore

Berlin MD 21811

Landholding Agency: Interior

Property Number: 61201630017

Status: Excess

Directions: Storage Shed #1, 2, 3, 4, 5, 6

Comments: documented deficiencies: Structures has extensive deterioration, found to be structurally unsound or in collapsed condition.

Reasons: Extensive deterioration

3 Buildings

Webster Field Rd.

Inigoes MD 20684

Landholding Agency: Navy

Property Number: 77201630032

Status: Underutilized

Directions: 8108; 8136; 8143

Comments: public access denied and no alternative method to gain access without compromising national security.

Reasons: Secured Area

[FR Doc. 2016-23558 Filed 9-29-16; 8:45 am]

BILLING CODE 4210-67-P